DEPARTMENT OF TRANSPORTATION

Federal Aviation Administration

Notice of Intent To Rule on Request To Release Airport Property at the Smyrna-Rutherford County Airport, Smyrna, TN

AGENCY: Federal Aviation Administration (FAA), DOT.

ACTION: Request for public comment.

SUMMARY: The Federal Aviation Administration is requesting public comment on the release of land at the Smyrna-Rutherford County Airport, Smyrna, Tennessee. This property, approximately 166 acres on the east side of the airport, and 56 acres on the west side of the airport will change to a non-aeronautical use. This action is taken under the provisions of 49 U.S.C. Section 47107(h)(2) requiring public notice before a waiver of property used for an aeronautical purpose is granted.

DATES: Comments must be received on or before November 9, 2012.

ADDRESSES: Documents are available for review at the Smyrna—Rutherford County Airport, 278 Doug Warpoole Road, Smyrna, Tennessee 37167 and the FAA Airports District Office, 2862 Business Park Drive, Building G, Memphis, TN 38118. Written comments on the Sponsor's request must be delivered or mailed to: Mr. Phillip J. Braden, Manager, Memphis Airports District Office, 2862 Business Park Drive, Building G, Memphis, TN 38118.

In addition, a copy of any comments submitted to the FAA must be mailed or delivered to Mr. John R. Black, Executive Director, Smyrna-Rutherford County Airport Authority, 278 Doug Warpoole Road, Smyrna, Tennessee 37167

FOR FURTHER INFORMATION CONTACT: Mr. Michael Thompson, Program Manager, Federal Aviation Administration, Memphis Airports District Office, 2862 Business Park Drive, Building G, Memphis, TN 38118. The application may be reviewed in person at this same location, by appointment.

SUPPLEMENTARY INFORMATION: The FAA proposes to rule and invites public comment on the request to release property at the Smyrna-Rutherford County Airport, Smyrna, Tennessee under the provisions of 49 U.S.C. 47107(h)(2).

On October 1, 2012, the FAA determined that the request to release property at Smyrna-Rutherford County Airport meets the procedural requirements of the Federal Aviation Administration. The FAA may approve the request, in whole or in part, no later than November 9, 2012.

The following is a brief overview of the request:

The Smyrna-Rutherford County Airport is proposing the release of approximately 166 acres on the east side of the airport, and 56 acres on the west side of the airport so the property can be designated as available for non-aeronautical lease at the airport. This property is located as follows:

122 Acres—located on the west side of the airport between Threet Industrial Drive and Doug Warpoole Road

56 Acres—located on the west side of the airport between the airport service road and the Cargo Apron.

Any person may inspect, by appointment, the request in person at the FAA office listed above under FOR FURTHER INFORMATION CONTACT.

In addition, any person may, upon appointment and request, inspect the request, notice and other documents germane to the request in person at the Tennessee Department of Transportation, Division of Aeronautics.

Issued in Memphis, TN on October 1, 2012.
Phillip J. Braden
Manager, Memphis Airports District Office, Southern Region.

[FR Doc. 2012-24662 Filed 10-9-12; 8:45 am]

BILLING CODE P